DEPARTMENT OF THE INTERIOR

National Park Service

[NPS-WASO-NAGPRA-NPS0038345; PPWOCRADN0-PCU00RP14.R50000]

Notice of Intended Repatriation: Virginia Museum of Fine Arts, Richmond, VA

AGENCY: National Park Service, Interior.

ACTION: Notice.

SUMMARY: In accordance with the Native American Graves Protection and Repatriation Act (NAGPRA), the Virginia Museum of Fine Arts intends to repatriate a certain cultural item that meets the definition of a sacred object, and that has a cultural affiliation with the Indian Tribes or Native Hawaiian organizations in this notice.

DATES: Repatriation of the cultural item in this notice may occur on or after August 29, 2024.

ADDRESSES: Kelly Burrow, Virginia Museum of Fine Arts, 200 N. Arthur Ashe Boulevard, Richmond, VA 23220, telephone (804) 204-2669, email Kelly.burrow@vmfa.museum.

SUPPLEMENTARY INFORMATION: This notice is published as part of the National Park Service's administrative responsibilities under NAGPRA. The determinations in this notice are the sole responsibility of the Virginia Museum of Fine Arts, and additional information on the determinations in this notice, including the results of consultation, can be found in the summary or related records. The National Park Service is not responsible for the determinations in this notice.

Abstract of Information Available

A total of one cultural item has been requested for repatriation. The one sacred object is a painted shield made of buffalo hide, and the Virginia Museum of Fine Arts records identify the shield as Pueblo of Santa Ana. The shield was purchased from Christie's New York, Sale 1688, Lot 144, January 12, 2006, by Robert and Nancy Nooter, who donated it to the Virginia Museum of Fine Arts in June 2017. Results of consultation with the Pueblo of Santa Ana Tribal Historic Preservation Office and Conservation Enforcement confirm that this sacred object originated from the Pueblo of Santa Ana, New Mexico.

Determinations

The Virginia Museum of Fine Arts has determined that:

• The one sacred object described in this notice is a specific ceremonial object needed by a traditional Native American religious leader for present-day adherents to practice traditional Native American religion, according to the Native American traditional knowledge of a lineal descendant, Indian Tribe, or Native Hawaiian organization.

• There is a reasonable connection between the cultural item described in this notice and the Pueblo of Santa Ana, New Mexico.

Requests for Repatriation

Additional, written requests for repatriation of the cultural item in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after August 29, 2024. If competing requests for repatriation are received, the Virginia Museum of Fine Arts must determine the most appropriate requestor prior to repatriation. Requests for joint repatriation of the cultural item is considered a single request and not competing requests. The Virginia Museum of Fine Arts is responsible for sending a copy of this notice to the Indian Tribes and Native Hawaiian organizations identified in this notice and to any other consulting parties.

Authority: Native American Graves Protection and Repatriation Act, 25 U.S.C. 3004 and the implementing regulations, 43 CFR 10.9.

Dated: July 17, 2024.
Melanie O'Brien,
Manager, National NAGPRA Program.

[FR Doc. 2024-16701 Filed 7-29-24; 8:45 am]

BILLING CODE 4312-52-P